DEPARTMENT OF AGRICULTURE

Natural Resources Conservation Service

Conservation Innovation Grants Fiscal Year 2008 Announcement of Program Funding; Catalog of Federal Domestic Assistance (CFDA) Number: 10.912

AGENCY: Natural Resources Conservation Service (NRCS), Commodity Credit Corporation.

ACTION: Notice.

SUMMARY: NRCS requests applications for Conservation Innovation Grants (CIG) to stimulate the development and adoption of innovative conservation approaches and technologies. Applications are accepted from all 50 States, the Caribbean Area (Puerto Rico and the Virgin Islands), and the Pacific Basin Area (Guam, American Samoa, and the Commonwealth of the Northern Mariana Islands). NRCS anticipates that the amount available for support of this program in FY 2008 will be approximately $20 million. Funds will be awarded through a nationwide competitive grants process. There are three CIG categories available in FY 2008: Natural Resource Concerns Category, Technology Category, and the Chesapeake Bay Watershed Category. Applications are requested from eligible government or non-government organizations or individuals for competitive consideration of grant awards for projects between one and three years in duration. This notice identifies the objectives for CIG projects, the eligibility criteria for projects and associated instructions needed to apply to CIG.

DATES: Applications must be received in the NRCS National Headquarters by 5 p.m., Eastern Standard Time (EST), on Wednesday, February 20, 2008.

ADDRESSES: The address for hand-delivered applications or applications submitted using express mail or overnight courier service is: USDA Natural Resources Conservation Service; Conservation Innovation Grants Program; Financial Assistance Programs Division, Room 5239-S; 1400 Independence Ave, SW.; Washington, DC 20250. Contact phone numbers for hand-delivered applications are (202) 720-1845, (202) 720-2335, or (202) 205-1165.

Applications sent via the U.S. Postal Service must be sent to the following address: USDA Natural Resources Conservation Service; Conservation Innovation Grants Program; Financial Assistance Programs Division; Room 5239-S, Post Office Box 2890, Washington, DC 20013-2890.

To submit your application electronically, visit www.grants.gov/apply and follow the instructions.

FOR FURTHER INFORMATION CONTACT:

Tessa Chadwick, CIG National Program Manager, USDA NRCS, PO Box 2890, Room 5239-S, Washington, DC 20013-2890 | Shani Harmon, CIG Program Assistant, USDA NRCS, PO Box 2890, Room 5239-S, Washington, DC 20013-2890.
Phone: (202) 720-2335 | Phone: (202) 205-1165.
Fax: (202) 720-4265 | Fax: (202) 720-4265.
e-mail: tessa.chadwick@wdc.usda.gov. | e-mail: shani.harmon@wdc.usda.gov.

SUPPLEMENTARY INFORMATION:

Table of Contents

PART I—Funding Opportunity Description

A. Legislative Authority

B. Overview

C. Innovative Conservation Projects or Activities

D. CIG Categories

1. Natural Resource Concerns

2. Chesapeake Bay Watershed

3. Technology

PART II—Funding Availability

A. National Component

B. State Component

PART III—Eligibility Information

A. Matching Funds

B. Beginning and Limited Resource Farmers and Ranchers, and Indian Tribes

C. EQIP Payment Limitation and Duplicate Payments

D. Project Eligibility

PART IV—Application and Submission Information

A. How To Obtain Application Materials

B. Application Content and Format

C. How To Submit a Written Application

D. How To Submit an Application Electronically

E. Application Due Date

F. Acknowledgement of Submission

G. Funding Restrictions

H. Patents and Inventions

I. Withdrawal of Applications

PART V—Application Review

A. Application Review and Selection Process

B. Criteria for Application Evaluation

C. Anticipated Announcement and Award Dates

PART VI—Award Information and Administration

A. Award Notification

B. Grant Agreement

C. Reporting Requirements

PART VII—Agency Contacts

PART VIII—Other Information

A. FY 2008 Application Checklist

B. NRCS State Conservationists

I. Funding Opportunity Description

A. Legislative Authority

CIG was authorized as part of the Environmental Quality Incentives Program (EQIP) [16 U.S.C. 3839aa-8] under Section 1240H of the Food Security Act of 1985, as added by Section 2301 of the Farm Security and Rural Investment Act of 2002 (Pub. L. 107-171). The Secretary of Agriculture delegated the authority for the administration of EQIP and CIG to the Chief of the Natural Resources Conservation Service (NRCS), who is a Vice President of the Commodity Credit Corporation (CCC). EQIP is administered by NRCS under the authorities of the CCC.

B. Overview

The purpose of CIG is to stimulate the development and adoption of innovative conservation approaches and technologies while leveraging the Federal investment in environmental enhancement and protection, in conjunction with agricultural production. CIG projects are expected to lead to the transfer of conservation technologies, management systems, and innovative approaches (such as market-based systems) into NRCS technical manuals, guides, and references, or to the private sector. CIG does not fund research projects. Instead, it is a vehicle to stimulate the development and adoption of conservation approaches or technologies that have been studied sufficiently to indicate a likelihood of success and to be candidates for eventual technology transfer or institutionalization. CIG funds projects targeting innovative on-the-ground conservation, including pilot projects and field demonstrations.

NRCS will accept applications for single or multi-year projects, not to exceed three years, submitted to NRCS from eligible entities, including federally-recognized Indian Tribes, State and local governments, and non-governmental organizations and individuals. Applications are accepted from all 50 States, the Caribbean Area (Puerto Rico and the Virgin Islands), and the Pacific Basin Area (Guam, American Samoa, and the Commonwealth of the Northern Mariana Islands).

Complete applications will be evaluated by a technical peer review panel and scored based on the Criteria for Application Evaluation identified in this document. There are eight review groups for FY 2008 applications: Water Quality-Livestock; Water Quality-Not Livestock; Water Quantity; Soils; Atmospheric; Grazing Land and Forest Health; Wildlife; and Energy. Applicants will indicate which of these review groups should review the application. Scored applications will be forwarded to a Grants Review Board. The Grants Review Board will make recommendations for project approval to the Chief. Final award selections will be made by the Chief of NRCS.

C. Innovative Conservation Projects or Activities

For the purposes of CIG, the proposed innovative project or activity must encompass the development and field testing, evaluation, and implementation of:

• Conservation adoption incentive systems, including market-based systems; or,

• Promising conservation technologies, practices, systems, procedures, or approaches.

To be given priority consideration, the innovative project or activity:

• Will have been studied sufficiently to indicate a good probability for success;

• Demonstrates, tests, evaluates, and verifies environmental (soil, water, air, plants, and animal) effectiveness, utility, affordability, and usability in the field;

• Adapts conservation technologies, practices, systems, procedures, approaches, and incentive systems to improve performance, and encourage adoption;

• Introduces conservation systems, approaches, and procedures from another geographic area or agricultural sector; and

• Adapts conservation technology, management, or incentive systems to improve performance.

D. CIG Categories

For Fiscal Year 2008, three categories of CIG will be offered. Applicants will need to identify which of the 3 categories applies to their proposed project.

1. National Natural Resource Concerns Category

Applications must demonstrate the use of innovative technologies or approaches, or both, to address a natural resource concern or concerns. The five natural resource concerns for possible funding through Conservation Innovation Grants for fiscal year 2008 are: Water Resources; Soil Resources; Atmospheric Resources; Grazing Land and Forest Health; and Wildlife Habitat. This Category also includes applications that focus on Market Based Approaches to address any or all of these five resource concern areas.

A. Water Resources

The objective of this natural resource concern is to implement new technologies and/or approaches to maintain, restore, or enhance water quality and/or quantity in watersheds with predominantly agricultural land uses while sustaining productivity. Subtopics include:

• Nutrient, pesticide, and/or pathogen transport to surface water and groundwater;

• Sediment transport to surface water;

• Aquifer recharge/maintenance of groundwater supplies;

• Increased water supplies/availability through alternative treatment; enhanced automation, monitoring or scheduling; reduced system losses; or reuse strategies; and

• Technologies scalable to small farms to maintain, restore, or enhance water quality and/or quantity.

B. Soil Resources

The objective of this conservation concern is to implement new technologies and/or approaches to maintain, restore, or enhance soil resources associated with agricultural and forest land uses while sustaining productivity. Subtopics include:

• Erosion reduction;

• Accumulation of harmful levels of constituents in soils, including nutrients, metals, or salts; and

• Improvement to soil quality and productivity.

C. Atmospheric Resources

The objective of this conservation concern is to implement new technologies and/or approaches to maintain, restore, or enhance air quality and atmospheric resources through agricultural and forestry practices while sustaining productivity. Subtopics include:

• Agricultural emissions of particulates, odors, volatile organic compounds, and greenhouse gases;

• Carbon sequestration in soil and through other mechanisms;

• Bio-based energy opportunities; and

• Identification and quantification of management practices for air quality and atmospheric change concerns at animal operations.

D. Grazing Land and Forest Health

The objective of this conservation concern is to implement new technologies and/or approaches to maintain, restore, or enhance grazing land and forest health while sustaining productivity. Subtopics include:

• Invasive species management on grazing and forest land;

• Effects of pests, diseases, and fragmentation on forest and grazing land quality/health;

• Systems or practices to minimize overgrazing and restore lands suffering effects of overgrazing;

• Low-input approaches to increasing forage production;

• Alternative grasses or forages for livestock; and

• Systems or practices that integrate trees-forage-livestock (i.e., silvopasture).

E. Wildlife Habitat

The objective of this conservation concern is to implement new technologies and/or approaches for environmentally sound wildlife habitat management while sustaining agricultural productivity. Possible subtopics include:

• Riparian area management and restoration;

• Invasive species management;

• Pollinator protection

• Biodiversity; and,

• Wetland function and health.

F. Market-Based Approaches

The objective of this approach is to develop, implement, and or evaluate processes, technology tools, institutional arrangements, or systems that are ‘market-based’ in nature and address one of the above priority resource concerns. Possible subtopics include:

• Development and application of technology tools that measure environmental services (i.e. benefits) in order to document credits for trading;

• Greenhouse gas accounting tools and registries;

• Water quality improvement accounting tools;

• Nutrient trading and/or accounting tools;

• Demonstration of ecosystem-based services that facilitate conservation implementation; and

• Processes and institutional arrangements that develop, demonstrate, evaluate, and clarify successful approaches to market-based conservation involving private working lands.

2. Chesapeake Bay Watershed Category

Applications for the Chesapeake Bay Watershed Category are being accepted and reviewed by the National Fish and Wildlife Foundation. Information for submitting an application for this category of CIG funding can be accessed at the following link http://www.nfwf.org.

3. National Technology Category

Applications must address one or more of the following specific technology needs areas identified by NRCS:

A. Improved On-Farm Energy Efficiency—Possible Subtopics Include

• Renewable energy sources such as wind or solar;

• Methane recovery;

• Other innovative farm management or production technologies;

• Automated self energy audit technology;

• Energy audit worksheets; and

• Compilation of on-farm energy audits and audit processes.

B. Water Management (Both Drainage Water and Irrigation Water) Drainage Water Management—Possible Subtopics Include

• Implementation of drainage water management systems in small watersheds and application of tools to assess multiple effects (e.g., economic, wildlife habitat, soil quality, air quality, wetlands and water quality) at watershed scale;

• Achieving downstream nutrient reduction benefits through management of surface or sub-surface drainage systems;

• Improving water/nutrient accounting/budgeting;

• Improving design and management of drainage water management systems to improve benefits to producers and to the environment;

• Improving the ability of buffers to reduce nutrient loadings in tile drained landscapes; and

• Improving wetland creation, restoration, and enhancement to reduce nutrient loadings.

Irrigation Water Management—Possible Subtopics Include

• New engineering software or modeling systems that would automate, demonstrate, and facilitate technically sound conservation decisions by the public pertaining to resource assessment, conservation planning, and conservation system installation and evaluation;

• Irrigation management for water conservation;

• Achieving multiple benefits (e.g., economic, enhanced crop production, recreation, wildlife habitat, soil quality, wetlands and water quality) through area-wide or regional irrigation water management, scheduled application, and supply or application of new or innovative technology; and

• Achieving nutrient or pollutant reduction benefits in downstream receiving waters through area-wide or regional irrigation water management, scheduled application, and supply or application of new or innovative technology.

II. Funding Availability

A. National Component

NRCS anticipates that the amount available for support of this program in FY 2008 will be approximately $20 million. The anticipated funding breakdown for each category is:

• National Natural Resource Concerns Category: Up to $10 million;

• Chesapeake Bay Watershed Category: Up to $5 million;

• National Technology Category: Up to $5 million.

Funds will be awarded through a nationwide competitive grants process. Funds not used in one category may be shifted to another category by the Chief. The maximum award amount for any project will not exceed $1 million. CIG will fund single- and multi-year projects, not to exceed three years.

The available funding for the three national categories is anticipated to fund approximately 50 to 60 awards based on previous years' experience in administering CIG. The anticipated start date for awarded projects is September 1, 2008.

B. State Component

The intent of the State Component is to provide flexibility to NRCS State Conservationists to target CIG funds to individual producers and smaller organizations that may possess promising innovations, but may not compete well on the larger scale of the national grants competition. For FY 2008, the State Component of CIG will be available in select states at the discretion of the State Conservationist. Project applications that request federal funds of $75,000 or less and are not multi-state in scope will be forwarded to the appropriate state program manager if that state is participating in the State Component. All applications that are forwarded will be notified in writing, and provided with a contact for State Component information. Funding availability and application and submission information for state competitions will be announced through public notices (and on State NRCS Web sites) separately from this national notice. State Conservationists will determine the funding level for state competitions, with individual grants not to exceed $75,000.

III. Eligibility Information

CIG applicants must be a federally-recognized Indian Tribe; State or local unit of government; non-governmental organization; private business; or individual.

A. Matching Funds

Selected applicants may receive grants of up to 50 percent of the total project cost. Applicants must provide non-Federal funding (matching funds) for at least 50 percent of the project cost. Up to half of the applicant's matching funds (up to 25 percent of the total project cost) may be from in-kind contributions.

B. Beginning and Limited Resource Farmers and Ranchers, and Indian Tribes

Information regarding the definitions for Limited Resource or Beginning Farmers and Ranchers can be found in the EQIP Final Rule, Federal Register, Vol. 68, No.104, Section 1466.3, Definitions. For the FY 2008 grant award process, up to 10 percent of the total funds available for CIG may be set-aside for applications from Beginning and Limited Resource Farmers and Ranchers, Indian Tribes, or community-based organizations comprised of or representing these entities. To compete for these set-aside funds, the applicant must make a declaration in the application as described in Part IV B.5. of this notice. Applications that are unsuccessful in the set-aside competition will be placed automatically in the general application pool for consideration. Funds not used in the set-aside pool will revert back into the general funding pool.

In addition, an exception regarding matching funds is made for projects funded out of the set-aside. Up to three fourths of the required matching funds for such projects (up to 37.5 percent of the total project cost) may derive from in-kind contributions. This exception is intended to help Beginning and Limited Resource Farmers or Ranchers and Indian Tribes meet the statutory requirements for receiving a Conservation Innovation Grant.

C. EQIP Payment Limitation and Duplicate Payments

Section 1240G of the Food Security Act of 1985 (as amended by the Farm Security and Rural Investment Act of 2002), 16 U.S.C. 3839aa-7, imposes a $450,000 limitation for all cost-share or incentive payments disbursed to individuals or entities under an EQIP contract between 2002 and 2008. The limitation applies to CIG in the following manner:

a. CIG funds are awarded through grant agreements; these grant agreements are not EQIP contracts. Thus, CIG awards in and of themselves are not limited by the payment limitation.

b. Direct or indirect payments made to an individual or entity using funds from a CIG award to carry out structural, vegetative, or management practices count toward each individual's or entity's EQIP payment limitation. Through project progress reports, CIG grantees are responsible for certifying that producers involved in CIG projects do not exceed the payment limitation. Further, all direct and indirect payments made to producers using CIG funds must be reported to the NRCS CIG program manager in the semi-annual report. Direct or indirect payments can not be made for a practice for which the producer has already received funds, or is contracted to receive funds, through any of the USDA Programs (EQIP, AMA, CSP, WHIP, etc.) since this would be considered a duplicate payment.

Payment Limitation Examples

Following are two examples of how the $450,000 EQIP payment limitation applies to CIG projects:

a. A $500,000 CIG grant is awarded to a State environmental agency to demonstrate an innovative, market-based, water quality trading program. The money is used to finance the development of a market infrastructure, and none of the funds are used to implement structural, vegetative, or management practices. Producers in the trading market demonstration area may indirectly benefit from their eventual participation in the market, but there is no direct or indirect transfer payment of CIG dollars. If, on the other hand, part of the CIG award were used to make payments to producers who implement conservation practices on their land as part of a trading program, those payments would count toward each producer's $450,000 EQIP payment limitation.

b. A $1,000,000 CIG grant is awarded to a Conservation District to pilot a community-based animal waste treatment technology innovation. EQIP-eligible producers in the area transport their animal waste to a central treatment location. Because producers are not directly or indirectly receiving CIG funds, the payment limitation does not apply. If, however, the producers were paid for their waste, or for transporting their waste to the central treatment location using CIG funds, the payments would be subject to each producer's EQIP payment limitation.

D. Project Eligibility

All agricultural producers receiving direct or indirect payments through participation in a CIG project must meet the EQIP eligibility requirements as set forth in 16 U.S.C. 3839aa-1. Refer to http://www.nrcs.usda.gov/programs/eqip/ for more information on EQIP eligibility requirements. Participating producers are not required to have an EQIP contract.

A person or entity is not eligible if the three-year average adjusted gross income (AGI) exceeds $2.5 million with less than 75 percent derived from farming, ranching, or forestry-related sources at the time of application.

A person who is determined ineligible for USDA program benefits under the Highly Erodible Land Compliance (HELC) and Wetland Compliance (WC) provisions of the Food Security Act of 1985 will not be eligible to receive direct or indirect payments through CIG.

Technologies and approaches that are eligible for funding in a project's geographic area through EQIP are ineligible for CIG funding except where the use of those technologies and approaches demonstrates clear innovation. The burden falls on the applicant to sufficiently describe the innovative features of the proposed technology or approach (applicants should reference the appropriate State's EQIP Eligible Practices List by contacting the NRCS State office, or by visiting the EQIP Web site: http://www.nrcs.usda.gov/programs/eqip/EQIP_signup/2008_EQIP_Signup/index.html.

The grantee is responsible for providing the technical assistance required to successfully implement and complete the project. NRCS will designate a Program Contact, an Administrative Contact, and a Technical Contact to provide oversight for each project receiving an award.

IV. Application and Submission Information

A. How To Obtain Application Materials

All OMB standard forms necessary for CIG submission are posted on the following Web site: http://www.grants.gov/agencies/aapproved_standard_forms.jsp. An application checklist is available on the CIG Web site: http://www.nrcs.usda.gov/programs/cig.

B. Application Content and Format

Applications must contain the information set forth below in order to receive consideration for a grant. Applicants should not assume prior knowledge on the part of NRCS or others as to the relative merits of the project described in the application. Submit applications in the following format:

Applications should be typewritten or printed on 8½″ x 11″ white paper, double spaced. The text of the application should be in a font no smaller than 12-point, with one-inch margins. If submitting applications for more than one project, submit a separate, complete application package for each project.

Applications must include all required forms and narrative sections described below. Incomplete applications will not be considered.

1. Cover Sheet: Applicants must use Standard Form 424 as the cover sheet for each project application. Standard Form 424 can be downloaded from http://www.grants.gov/agencies/aapproved_standard_forms.jsp or obtained from a NRCS State Office. (A list of NRCS State Offices is provided at the end of this announcement.)

2. Project Summary Sheet: Applicants must submit a Project Summary Sheet (no more than 2 pages in length) that includes the listed information. A template for the Project Summary Sheet is available on the NRCS CIG Web site: http://www.nrcs.usda.gov/programs/cig.

a. Project Title.

b. Project Director name and contact information (including e-mail).

c. Names and affiliations of project collaborators.

d. Project Purpose.

e. Project Deliverables/Products.

f. Project Scope/Area.

g. Project Start and End Dates (Projects should plan to begin no earlier than September 1, 2008 and no later than September 30, 2008).

h. CIG National Component Category (Natural Resource or Technology).

i. Application Review Category (water quality-livestock, water quality-non livestock, water quantity, soils, atmospheric, grazing land and forest health, wildlife habitat, or energy).

j. Declaration of EQIP eligibility.

k. Brief summary of project.

3. Project Description: Each project must be completely and accurately described in no more than 10 double-spaced pages. The description must include the following information:

a. Project background: Describe the history of, and need for, the proposed innovation. Provide evidence that the proposed innovation has been studied sufficiently to indicate a good probability for success of the project;

b. Project objectives: Be specific, using qualitative and quantitative measures, if possible, to describe the project's purpose and goals. Describe how, based on the description of innovative conservation projects and activities provided in section I.C., the project is innovative;

c. Project methods: Describe clearly the methodology of the project and the tools or processes that will be used to implement the project;

d. Location and size of project or project area: Describe the location of the project and the relative size and scope (e.g., acres, farm types and demographics, etc.) of the project area. Provide a map, if possible;

e. Producer participation: Estimate the number of producers involved in the project, and describe the extent of their involvement (all producers involved in the project must be eligible for EQIP);

f. Project action plan and timeline: Provide a table listing project actions, timeframes, and associated milestones through project completion;

g. Project management: Give a detailed description of how the project will be organized and managed. Include a list of key project personnel, their relevant education or experience, and their anticipated contributions to the project. Explain the level of participation required in the project by government and non-government entities. Identify who will participate in monitoring and evaluating the project;

h. Benefits or results expected and transferability: Identify the results and benefits to be derived from the proposed project activities, and explain how the results will be measured. Identify project beneficiaries—for example, agricultural producers by type or region or sector; rural communities; municipalities. Explain how these entities will benefit. In addition, describe how results will be communicated to others via outreach activities;

i. Project evaluation: Describe the methodology or procedures to be followed to evaluate the project, determine technical feasibility, and quantify the results of the project for the final report. (Grant recipients will be required to provide a semi-annual report of progress, quarterly financial reports, and a final project report to NRCS. Instructions for submitting quarterly reports will be detailed in the grant agreement.); and

j. Environmental impacts: Describe the anticipated environmental effects of the proposed project. This description will be used to determine whether an Environmental Assessment (EA) or Environmental Impact Statement (EIS) is needed for any given project, prior to the awarding of grant funds. The applicant is responsible for the cost of an EA or EIS, should one be required.

4. Budget Information: Must use Standard Form (SF) 424 A Budget Information Non-Construction Programs to document budget needs. SF 424 A is available at http://www.grants.gov/agencies/aapproved_standard_forms.jsp or can be obtained from a NRCS State Office. In addition to the SF424 A, all applicants must provide a detailed narrative in support of the budget for the project, broken down by each project year. Itemize the costs necessary for successful completion of the proposed project. Indicate the total amount (both cash and in-kind) of non-Federal matching support that will be provided to the proposed project. Identify and provide documentation of the source(s), the amount, and the nature (cash or in-kind) of the matching funds. If claiming indirect costs, an applicant must provide justification for the rate of indirect costs being claimed. Indirect costs can not exceed 15 percent. In-kind costs of equipment or project personnel cannot exceed 50 percent of the applicant's match (except in the case of projects carried out by either a Beginning or Limited Resource Farmer or Rancher, or Indian Tribe, or a community-based organization comprised of or representing these entities). The remainder of the match must be provided in cash.

5. Declaration of Beginning Farmer or Rancher or Limited Resource Farmer or Rancher, or Indian Tribe: If an applicant wishes to compete in the 10 percent set-aside funding pool (see Part III B. that describes the provision of a set-aside pool of funding for Beginning and Limited Resource Farmers or Ranchers, and Indian Tribes) and avail themselves of the in-kind contribution exception, applicants must make a declaration in writing of their status as a Beginning Farmer or Rancher or Limited Resource Farmer or Rancher, or Indian Tribe, or a community-based organization comprised of or representing these entities.

6. Declaration of EQIP Eligibility: Applicants must make a declaration in writing that they, or parties involved in the project, are eligible for EQIP.

7. State Conservationist Letter of Review: Applicants must send a copy of cover letter showing that the application was sent to the appropriate State Conservationist(s) for review. If a project is multi-state in scope, all states in the project area must be sent the application for review. The State Conservationist(s) will review the application for potential duplication of efforts, ethics concerns, consistency with overall EQIP objectives, and the expected benefits to EQIP implementation in their state(s). Applicants must send their application (at least the Project Description (Item 3) and the Budget Information (Item 4)) to the appropriate State Conservationist(s) postmarked, or dated if electronic, no later than February 15, 2008. State Conservationist(s) must submit letters to NRCS National Headquarters by March 7, 2008. A list of NRCS State Office addresses and phone numbers is included at the end of this notice. Applicants are encouraged to consult with the appropriate State Conservationist(s) during application development to discuss the letter of review.

8. Certifications: All applications must include a signed Standard Form (SF) 424 B—Assurances, Non-construction Programs. SF 424 B may be found at: www.grants.gov/agencies/aapproved_standard_forms.jsp or contact a NRCS State Office. Applicants, by signing and submitting an application, assure and certify that they are in compliance with the following from 7 Code of Federal Register (CFR):

a. Part 3017, Government wide Debarment and Suspension (Non-procurement) http://www.access.gpo.gov/nara/cfr/waisidx_04/7cfr3o17_04.html

b. Part 3018, New Restrictions on Lobbying http://www.access.gpo.gov/nara/cfr/waisidx_04/7cfr3018_04.html; and

c. Part 3021, Government wide Requirements for Drug-Free Workplace (Financial Assistance) http://www.access.gpo.gov/nara/cfr/waisidx_04/7cfr3021_04.html.

9. DUNS Number: A Dun and Bradstreet (D&B) Data Universal Numbering System (DUNS) number is a unique nine-digit sequence recognized as the universal standard for identifying and keeping track of over 70 million businesses worldwide. A Federal Register notice of final policy issuance (68 FR 38402) requires a DUNS number in every application (i.e., hard copy and electronic) for a grant or cooperative agreement (except applications from individuals) submitted on or after October 1, 2003. For information about how to obtain a DUNS number go to http://www.grants.gov/RequestaDUNS or call 1-866-705-5711. Please note that the registration may take up to 14 business days to complete.

10. Required CCR Registration: The Central Contractor Registry (CCR) is a database that serves as the primary Government repository for contractor information required for the conduct of business with the Government. This database will also be used as a central location for maintaining organizational information for organizations seeking and receiving grants from the Government. CIG applicants must register with the CCR. To register, visit http://www.ccr.gov. Allow a minimum of 5 days to complete the CCR registration.

C. How To Submit a Written Application

Applicants must submit one signed original copy of each project application. Hard copies must be accompanied by an electronic copy on a 3½-inch diskette or compact disc (CD). Electronic files must be either Microsoft Word or Adobe Acrobat (pdf) files.

Applications submitted via facsimile or e-mail will not be accepted.

The address for hand-delivered applications or applications submitted using express mail or overnight courier service is: USDA Natural Resources Conservation Service, Conservation Innovation Grants Program, Financial Assistance Programs Division, Room 5239-S, 1400 Independence Ave, SW., Washington, DC 20250.

Contact phone numbers for hand-delivered applications (needed to enter the USDA South Building) are (202) 720-1845, (202) 720-2335, or (202) 205-1165.

The address for applications sent regular mail is: USDA Natural Resources Conservation Service, Conservation Innovation Grants Program, Financial Assistance Programs Division, Room 5239-S, Post Office Box 2890, Washington, DC 20013-2890.

D. How To Submit an Application Electronically

Applicants may submit applications electronically through Grants.gov, the Federal government's e-grants portal. Applications submitted through Grants.gov must contain all of the elements of a complete application outlined above. Instructions for electronically submitting the required standard forms, abstract, narrative, and declarations are posted on Grants.gov. The cover letter requesting the State Conservationist letter of review may be scanned as an attachment to the application. Instructions for adding attachments are available on Grants.gov. Applications submitted electronically are date and time stamped by Grants.gov and must be received by the identified closing date. Note that NRCS is not responsible for any technical malfunctions or Web site problems related to Grants.gov submissions. Applicants should begin the Grants.gov process well before the submission deadline to avoid problems.

E. Application Due Date

Complete applications must be received in Room 5239-S at NRCS National Headquarters by 5 p.m. EST on February 20, 2008. A postmark date is NOT a factor in whether an application is received on time. The applicant assumes the risk of any delays in application delivery. Applicants are strongly encouraged to submit completed applications via overnight mail or delivery service to insure timely receipt by NRCS.

F. Acknowledgement of Submission

Applications received by the due date will be acknowledged with an official letter. If an applicant has not received an acknowledgement within 30 days of the submission, they must contact the NRCS programmatic contact (See Part VII). Failure to do so may result in the application not being considered for funding by the peer review panel.

G. Funding Restrictions

Awardees may not use un-recovered indirect costs as part of their matching funds.

CIG funds may not be used to pay any of the following costs unless otherwise permitted by law, or approved in writing by the Authorized Departmental Officer in advance of incurring such costs:

a. Costs above the amount of funds authorized for the project;

b. Costs incurred prior to the effective date of the grant;

c. Costs which lie outside the scope of the approved project and any amendments thereto;

d. Entertainment costs, regardless of their apparent relationship to project objectives;

e. Compensation for injuries to persons, or damage to property arising out of project activities;

f. Consulting services performed by a Federal employee during official duty hours when such consulting services result in the payment of additional compensation to the employee; and,

g. Renovation or refurbishment of research or related spaces; the purchase or installation of fixed equipment in such spaces; and the planning, repair, rehabilitation, acquisition, or construction of buildings or facilities.

This list is not exhaustive. Questions regarding the allowances of particular items of cost should be directed to the administrative contact person listed below.

H. Patents and Inventions

Allocation of rights to patents and inventions shall be in accordance with USDA regulation 7 CFR 3019.36. This regulation provides that small businesses normally may retain the principal worldwide patent rights to any invention developed with USDA support. In accordance with 7 CFR 3019.2, this provision will also apply to commercial organizations for the purposes of CIG. USDA receives a royalty-free license for Federal Government use, reserves the right to require the patentee to license others in certain circumstances, and requires that anyone exclusively licensed to sell the invention in the United States must normally manufacture it domestically.

I. Withdrawal of Applications

Applications may be withdrawn by written notice at any time before an award is made. Applications may be withdrawn in person by the applicant, or by an authorized representative thereof, if the representative's identity is made known and the representative signs a receipt for the application.

V. Application Review

A. Application Review and Selection Process

Prior to technical review, each application will be screened for completeness and compliance with the provisions of this notice. Incomplete applications and those that do not meet the provisions of this notice will be eliminated from competition, and notification of elimination will be mailed to the applicant.

Applications meeting the provisions of this notice will be scored by a Peer Review Panel. The applications will be divided among the peer review groups, based on the area selected by the applicant. The eight review areas for FY 2008 applications are: Water Quality-Livestock; Water Quality-Not Livestock; Water Quantity; Soils; Atmospheric; Grazing Land and Forest Health; Wildlife Habitat; and Energy. Applications will be scored based on the Criteria for Application Evaluation below. Scored applications will be forwarded to a Grants Review Board, which will certify the rankings from the peer review panels, and ensure that the application evaluations are consistent with program objectives. The CIG Grants Review Board consists of five members of NRCS leadership, specifically the Deputy Chief for Soil Survey and Resource Assessment, the Deputy Chief for Science and Technology, the Deputy Chief for Programs, one Regional Assistant Chief, and one State Conservationist. The Grants Review Board will make recommendations to the Chief for final selection and funding decisions.

B. Criteria for Application Evaluation

Peer review panels will use the following criteria to evaluate project applications. Each of the four criterions carries an equal weight of 25 percent.

1. Purpose and goals:

a. The purpose and goals of the project are clearly stated;

b. The project adheres to the natural resource conservation concerns for FY 2008 stated in this notice; and,

c. There is clear and significant potential for a positive and measurable outcome.

2. Soundness of approach or design:

a. The project adheres to the description of innovative projects or activities found in Part IC. of this notice;

b. Technical design and implementation strategy is based on sound science;

c. There is a good likelihood of project success;

d. The project substantively involves EQIP eligible producers; and,

e. The project promotes environmental enhancement and protection in conjunction with agricultural production.

3. Project management:

a. The application has clear milestones and timelines, designated staff, and demonstrates collaboration;

b. The project staff has the technical expertise needed to do the work; and

c. The budget is reasonable and adequately justified.

4. Transferability:

a. There is great potential to transfer the approach or technology to others and/or to other geographical areas; and,

b. The project will result in the development of technical or related materials (e.g., technical standards, technical notes, manuals, handbooks, software) that will help foster adoption of the innovative technology or approach by other producers, and in other geographic areas.

C. Anticipated Announcement and Award Dates

CIG Awards are anticipated to be announced by June 1, 2008. Funds are not awarded, and work may not start, until an agreement is signed by both NRCS and the grantee. All agreements are expected to be awarded by August 15, 2008.

VI. Award Information and Administration

A. Award Notification

Applicants who have been selected will receive a letter of official notification from NRCS National Headquarters. This notice will indicate the need to work with the administrative contact to develop an agreement prior to starting work on the project. Applicants who are not selected will be notified by official letter.

B. Grant Agreement

The CCC, through NRCS, will use a grant agreement with selected applicants to document participation in the CIG component of EQIP. The grant agreement will include:

• Project purpose;

• Project objectives and deliverables;

• The final project plan listing cooperators in the project, and identifying the grant applicant and the project manager;

• The project timelines and expected project completion date;

• The project progress and budget reporting requirements;

• Award amount and budget information;

• Information regarding requests for advance of funds or reimbursement;

• The role of NRCS technical oversight in the project;

• Reporting requirements including attendance at CIG grantee biannual meeting;

• Changes in project plans; and

• Other requirements and terms deemed necessary by the CCC to protect the interests of the United States.

C. Reporting Requirements

Grantees receiving an advance of Federal funds of more than $25,000 are required to submit a SF-272 (Report of Federal Cash Transactions), and when necessary, the continuation sheet, SF-272-A, no later than 15 days following the end of each quarter or 90 days after project completion. These reports are used to monitor cash advanced to recipients and to obtain disbursement and outlay information for each award.

Grantees must submit a Financial Status Report (SF-269) no later than 30 days after the end of each quarter and 90 days after completion of project. The SF-272 and SF-269 are available at: http://www.nrcs.usda.gov/programs/cig/InfoForGrantees.html.

In addition, every six months the grantee must submit a written performance progress report to the NRCS program contact and the NRCS technical contact. This report is distinct from the quarterly financial report described above. Each progress report shall cover work performed during the previous 6-month period, including any funded or unfunded time extensions, a comparison of actual accomplishments to project goals, and a statement of work projected to be completed in the next 6-month period.

The grantee is responsible for providing the technical assistance required to successfully implement and complete the project. NRCS will designate a Program Contact, an Administrative Contact, and a Technical Contact to provide oversight for each project receiving an award.

To satisfy the requirements of EQIP (7 CFR part 1466) compliance measures, the grantee is required to submit as a component of the semi-annual progress report:

1. A list of producers, identified by name and social security number, of all EQIP-eligible producers or entities involved in the project.

2. The dollar amount of direct and indirect payment made to each individual producer or entity for any structural, vegetative, or management practices. Both quarterly and cumulative payment amounts must be submitted.

3. A self-certification indicating that each individual or entity receiving a direct or indirect payment through this grant is in compliance with the EQIP Payment Limitation, AGI, HEL, and Wetlands Conservation Compliance Farm Bill provisions.

A progress report template will be provided to grantees by the NRCS program contact. This template is also available on the NRCS CIG Web site at: http://www.nrcs.usda.gov/programs/cig/InfoForGrantees.html.

NRCS will designate a Program Contact and a Technical Contact for the project. These individuals will have technical oversight responsibility for the project. The grantee must send copies of each semi-annual progress report to these NRCS contacts, and comply with any requests for information from these individuals. NRCS recommends that the grantee work closely with these subject matter experts throughout the course of the project.

Upon passage of the completion date of the project, a final report must be submitted within 90 days detailing project activities, funding received, funding expended, results, and potential for transferability of results. The final report should address completion of the project deliverables listed in the grant agreement.

NRCS will host an annual meeting for CIG grantees and NRCS technical contacts. Grantees will be required to attend at least one of these sessions at their own expense.

VII. Agency Contacts

CIG Program Contact: Tessa Chadwick, CIG National Program Manager, 1400 Independence Ave, SW., Room 5237-S, Washington, DC 20250. Phone: (202) 720-2335, Fax: (202) 720-4265, e-mail: tessa.chadwick@wdc.usda.gov.

CIG Administrative Contact: Karen Minor, Grants and Agreements Team Leader, 1400 Independence Ave, SW., Room 5222-S, Washington, DC 20250. Phone: (202) 720-2604 or (202) 720-4102, Fax: (202) 720-2262, e-mail: karen.minor@wdc.usda.gov.

Additional information about CIG, including fact sheets and frequently asked questions (FAQs), is available on the CIG Web page: http://www.nrcs.usda.gov/programs/cig.

Signed in Washington, DC on December 10, 2007.
Arlen L. Lancaster,
Vice President, Commodity Credit Corporation, Chief, Natural Resources Conservation Service.

VIII. Other Information

APPLICATIONS MISSING ANY OF THESE REQUIRED ITEMS WILL NOT BE CONSIDERED

Fiscal Year 2008 Application Package Checklist

☐ 1. Application Cover Sheet: Complete Standard Form 424 (SF-424).

☐ 2. Project Summary Sheet: (2 page maximum; template available))

a. Project Title;

b. Project Director name and contact information (including e-mail);

c. Names and affiliations of project collaborators;

d. Project Purpose;

e. Project Deliverables/Products;

f. Project Scope/Area;

g. Project Start and End Dates (Projects should plan to begin no earlier than September 1, 2008 and no later than September 30, 2008);

h. CIG National Component Category (Natural Resource or Technology);

i. Application Review Category (water quality-livestock, water quality-non livestock, water quantity, soils, atmospheric, grazing land and forest health, wildlife, or energy);

j. EQIP Eligibility Declaration;

k. Brief summary of project.

☐ 3. Project Description: (10 pages maximum, double spaced, 12 point font)

a. Project background;

b. Project objectives;

c. Project methods;

d. Location and size of project area (include a map if possible);

e. Producer participation;

f. Project action plan and timeline;

g. Project management;

h. Benefits or results expected and transferability;

i. Project evaluation; and

j. Environmental impacts.

☐ 4. Budget Information: Submit a completed SF-424A, a DETAILED budget narrative, and DOCUMENTATION showing matching funds available.

☐ 5. Declaration of Beginning Farmer or Rancher, Limited Resource Farmer or Rancher, or Indian Tribe (Special Provisions): If applicable, include a statement declaring your status as a Beginning Farmer or Rancher, Limited Resource Farmer or Rancher, Indian Tribe, or Community-based Organization representing these entities.

☐ 6. Declaration of EQIP Eligibility: Include a statement indicating that all producers receiving direct or indirect payments will be eligible for EQIP participation.

☐ 7. Documentation that application was sent to all appropriate State Conservationist(s) requesting a letter of review.

☐ 8. Certifications: Complete Standard Form 424b (SF-424b).

☐ 9. DUNS Number: For information about how to obtain a DUNS number go to http://www.grants.gov/RequestaDUNS or call 1-866-705-5711. Please note that the registration may take up to 14 business days to complete.

☐ 10. Required CCR Registration: Visit www.ccr.gov to register.

Natural Resources Conservation Service State Conservationists and State Offices

Alabama: Gary Kobylski, 3381 Skyway Drive, Post Office Box 311, Auburn, AL 36830; phone: (334) 887-4500; fax: (334) 887-4552; gary.kobylski@al.usda.gov

Alaska: Robert Jones, Atrium Building, Suite 100, 800 West Evergreen, Palmer, AK 99645-6539; phone: (907) 761-7760; fax: (907) 761-7790; robert.jones@ak.usda.gov

Arizona: David McKay, Suite 800, 3003 North Central Avenue, Phoenix, AZ 85012-2945; phone: (602) 280-8808; fax: (602) 280-8809 or 8805; david.mckay@az.usda.gov

Arkansas: Kalven L. Trice, Federal Building, Room 3416, 700 West Capitol Avenue, Little Rock, AR 72201-3228; phone: (501) 301-3100; fax: (501) 301-3194; kalven.trice@ar.usda.gov

California: Ed Burton, Suite 4164, 430 G Street, Davis, CA 95616-4164; phone: (530) 792-5600; fax: (530) 792-5790; ed.burton@ca.usda.gov

Caribbean Area: Juan A. Martinez, Director, IBM Building, Suite 604, 654 Munoz Rivera Avenue, Hato Rey, PR 00918-4123; phone: (787) 766-5206; fax: (787) 766-6563; juan.martinez@pr.usda.gov

Colorado: James Allen Green, Room E200C, 655 Parfet Street, Lakewood, CO 80215-5521; phone: (720) 544-2810; fax: (720) 544-2965; allen.green@co.usda.gov

Connecticut: Margo L. Wallace, 344 Merrow Road, Tolland, CT 06084; phone: (860) 871-4011; fax: (860) 871-4054; margo.wallace@ct.usda.gov

Delaware: Russell Morgan, Suite 101, 1203 College Park Drive, Dover, DE 19904-8713; phone: (302) 678-4160; fax: (302) 678-0843; russell.morgan@de.usda.gov

Florida: T. Niles Glasgow, 2614 N.W. 43rd Street, Gainesville, FL 32606-6611, or Post Office Box 141510, Gainesville, FL 32614; phone: (352) 338-9500; fax: (352) 338-9574; niles.glasgow@fl.usda.gov

Georgia: James Tillman, Federal Building, Stop 200, 355 East Hancock Avenue, Athens, GA 30601-2769; phone: (706) 546-2272; fax: (706) 546-2120; james.tillman@ga.usda.gov

Hawaii: Lawrence T. Yamamoto, Room 4-118, 300 Ala Moana Boulevard, Honolulu, HI 96850-0002; phone: (808) 541-2600, ext. 100; fax: (808) 541-1335; larry.yamamoto@hi.usda.gov

Idaho: Richard W. Sims, Suite C, 9173 West Barnes Drive, Boise, ID 83709; phone: (208) 378-5700; fax: (208) 378-5735; richard.sims@id.usda.gov

Illinois: William J. Gradle, 2118 W. Park Court, Champaign, IL 61821; phone: (217) 353-6600; fax: (217) 353-6676; bill.gradle@il.usda.gov

Indiana: Jane E. Hardisty, 6013 Lakeside Boulevard, Indianapolis, IN 46278-2933; phone: (317) 290-3200; fax: (317) 290-3225; jane.hardisty@in.usda.gov

Iowa: Richard Van Klaveren, 693 Federal Building, Suite 693, 210 Walnut Street, Des Moines, IA 50309-2180; phone: (515) 284-6655; fax: (515) 284-4394; rick.vanklaveren@ia.usda.gov

Kansas: Harold Klaege, 760 South Broadway, Salina, KS 67401-4642; phone: (785) 823-4565; fax: (785) 823-4540; harold.klaege@ks.usda.gov

Kentucky: Michael Hubbs, Suite 110, 771 Corporate Drive, Lexington, KY 40503-5479; phone: (859) 224-7350; fax: (859) 224-7399; mike.hubbs@ky.usda.gov

Louisiana: Kevin Norton, 3737 Government Street, Alexandria, LA 71302; phone: (318) 473-7751; fax: (318) 473-7626; kevin.norton@la.usda.gov

Maine: Joyce Swartzendruber, Suite 3, 967 Illinois Avenue, Bangor, ME 04401; phone: (207) 990-9100, ext. 3; fax: (207) 990-9599; joyce.swartzendruber@me.usda.gov

Maryland: Jon Hall, John Hanson Business Center, Suite 301, 339 Busch's Frontage Road, Annapolis, MD 21401-5534; phone: (410) 757-0861 ext. 315; fax: (410) 757-0687; jon.hall@md.usda.gov

Massachusetts: Christine Clarke, 451 West Street, Amherst, MA 01002-2995; phone: (413) 253-4351; fax: (413) 253-4375; christine.clarke@ma.usda.gov.

Michigan: Garry Lee, Suite 250, 3001 Coolidge Road, East Lansing, MI 48823-6350; phone: (517) 324-5270; fax: (517) 324-5171; garry.lee@mi.usda.gov.

Minnesota: William Hunt, Suite 600, 375 Jackson Street, St. Paul, MN 55101-1854; phone: (651) 602-7900; fax: (651) 602-7913 or 7914; william.hunt@mn.usda.gov.

Mississippi: Homer L. Wilkes, Suite 1321, Federal Building, 100 West Capitol Street, Jackson, MS 39269-1399; phone: (601) 965-5205; fax: (601) 965-4940; homer.wilkes@ms.nrcs.usda.gov.

Missouri: Roger A. Hansen, Parkade Center, Suite 250, 601 Business Loop 70, West Columbia, MO 65203-2546; phone: (573) 876-0901; fax: (573) 876-0913; roger.hansen@mo.usda.gov.

Montana: Jeff Burwell, acting, Federal Building, Room 443, 10 East Babcock Street, Bozeman, MT 59715-4704; phone: (406) 587-6811; fax: (406) 587-6761, jeff.burwell@co.usda.gov.

Nebraska: Stephen K. Chick, Federal Building, Room 152, 100 Centennial Mall, North Lincoln, NE 68508-3866; phone: (402) 437-5300; fax: (402) 437-5327; steve.chick@ne.usda.gov.

Nevada: Richard Vigil, 1365 Corporate Blvd. Building F, Suite 201, 5301 Longley Lane, Reno, NV 89511-180589502; phone: (775) 784-5863857-8500; fax: (775) 784-5939857-8524; richard.vigil@nv.usda.gov.

New Hampshire: George W. Cleek, Federal Building, 2 Madbury Road, Durham, NH 03824-2043; phone: (603) 868-7581, ext. 125; fax: (603) 868-5301; george.cleek@nh.usda.gov.

New Jersey: Thomas Drewes, 220 Davidson Avenue, 4th Floor, Somerset, NJ 08873-3157; phone: (732) 537-6040; fax: (732) 537-6095; thomas.drewes@nj.usda.gov.

New Mexico: Dennis Alexander, Suite 305, 6200 Jefferson Street, NE., Albuquerque, NM 87109-3734; phone: (505) 761-4400; fax: (505) 761-4481; dennis.alexander@nm.usda.gov.

New York: Ron Alvarado, Suite 354, 441 South Salina Street, Syracuse, NY 13202-2450; phone: (315) 477-6504; fax: (315) 477-6550; ron.alvarado@ny.usda.gov.

North Carolina: Mary K. Combs, Suite 205, 4405 Bland Road, Raleigh, NC 27609-6293; phone: (919) 873-2102; fax: (919) 873-2156; mary.combs@nc.usda.gov.

North Dakota: J.R. Flores, Jr., Room 278, 220 E. Rosser Avenue, Post Office Box 1458, Bismarck, ND 58502-1458; phone: (701) 530-2000; fax: (701) 530-2110; jr.flores@nd.usda.gov.

Ohio: Terry Cosby, Room 522, 200 North High Street, Columbus, OH 43215-2478; phone: (614) 255-2500; fax: (614) 255-2548; terry.cosby@oh.usda.gov.

Oklahoma: Ronald L. Hilliard, USDA Agri-Center Building, Suite 206, 100 USDA, Stillwater, Oklahoma 74074-2655; phone: (405) 742-1204; fax: (405) 742-1126; ron.hilliard@ok.usda.gov.

Oregon: Robert Graham, 1201 NE Lloyd Blvd., Suite 900, Portland, OR 97232; phone: (503) 414-3200; fax: (503) 414-3103; bob.graham@or.usda.gov.

Pacific Basin: Larry Yamamoto, Director, FHB Building, Suite 301, 400 Route 8, Mongmong, GU 96910; phone: (671) 472-7490; fax: (671) 472-7288; larry.yamamoto@pb.usda.gov.

Pennsylvania: Craig Derickson, Suite 340, 1 Credit Union Place, Harrisburg, PA 17110-2993; phone: (717) 237-2200; fax: (717) 237-2238; craig.derickson@pa.usda.gov.

Rhode Island: Roylene Rides at the Door, Suite 46, 60 Quaker Lane, Warwick, RI 02886-0111; phone: (401) 828-1300; fax: (401) 828-0433; roylene.rides-at-the-door@ri.usda.gov.

South Carolina: Walter W. Douglas, Strom Thurmond Federal Building, Room 950, 1835 Assembly Street, Columbia, SC 29201-2489; phone: (803) 253-3935; fax: (803) 253-3670; walt.douglas@sc.usda.gov.

South Dakota: Janet L. Oertly, Federal Building, Room 203, 200 Fourth Street, SW., Huron, SD 57350-2475; phone: (605) 352-1200; fax: (605) 352-1288; janet.oertly@sd.usda.gov.

Tennessee: J. Kevin Brown, 675 U.S. Courthouse, 801 Broadway, Nashville, TN 37203-3878; phone: (615) 277-2531; fax: (615) 277-2578; kevin.brown@tn.usda.gov.

Texas: Donald W. Gohmert, W.R. Poage Federal Building, 101 South Main Street, Temple, TX 76501-7602; phone: (254) 742-9800; fax: (254) 742-9819; don.gohmert@tx.usda.gov.

Utah: Sylvia Gillen, W.F. Bennett Federal Building, Room 4402, 125 South State Street, Salt Lake City, UT 84111 or Post Office Box 11350, Salt Lake City, UT 84147-0350, phone: (801) 524-4550, fax: (801) 524-4403; sylvia.gillen@ut.usda.gov.

Vermont: Judith Doerner, Suite 105, 356 Mountain View Drive, Colchester, VT 05446; phone: (802) 951-6795; fax: (802) 951-6327; judy.doerner@vt.usda.gov.

Virginia: Jack Bricker, Culpeper Building, Suite 209, 1606 Santa Rosa Road, Richmond, VA 23229-5014; phone: (804) 287-1691; fax: (804) 287-1737; jack.bricker@va.usda.gov.

Washington: Raymond L. “Gus” Hughbanks, Rock Pointe Tower II, Suite 450, W. 316 Boone Avenue, Spokane, WA 99201-2348; phone: (509) 323-2900; fax: (509) 323-2909; raymond.hughbanks@wa.usda.gov.

West Virginia: Kevin Wickey, Room 301, 75 High Street, Morgantown, WV 26505; phone: (304) 284-7540; fax: (304) 284-4839; kevin.wickey@wv.usda.gov.

Wisconsin: Patricia S. Leavenworth, 8030 Excelsior Drive, Suite 200, Madison, WI 53717; phone: (608) 662-4422; fax: (608) 662-4430; pat.leavenworth@wi.usda.gov.

Wyoming: Xavier Montoya, Federal Building, Room 3124, 100 East B Street, Casper, WY 82601-1911; phone: (307) 261-6453; fax: (307) 261-6490; xavier.montoya@wy.usda.gov.

[FR Doc. E7-24411 Filed 12-14-07; 8:45 am]

BILLING CODE 3410-16-P